SUSQUEHANNA RIVER BASIN COMMISSION

Actions Taken at December 6, 2018, Meeting

AGENCY: Susquehanna River Basin Commission.

ACTION: Notice.

SUMMARY: As part of its regular business meeting held on December 6, 2018, in Harrisburg, Pennsylvania, the Commission approved or tabled the applications of certain water resources projects, and took additional actions, as set forth in the SUPPLEMENTARY INFORMATION below.

DATES: December 6, 2018.

ADDRESSES: Susquehanna River Basin Commission, 4423 N. Front Street, Harrisburg, PA 17110-1788.

FOR FURTHER INFORMATION CONTACT: Ava Stoops, Administrative Specialist, telephone: 717-238-0423; fax: 717-238-2436; srbc@srbc.net. Regular mail inquiries may be sent to the above address. See also Commission website at www.srbc.net.

SUPPLEMENTARY INFORMATION: In addition to the actions taken on projects identified in the summary above and the listings below, the following items were also presented or acted upon at the business meeting: (1) Adopting the independent financial audit report for fiscal year 2018; (2) approval of several grant agreements; (3) adoption of a resolution urging President Trump and the United States Congress to provide full funding for the national Groundwater and Streamflow Information Program, thereby supporting the Susquehanna Flood Forecast & Warning System; (4) adopting a resolution approving a consumptive use mitigation project located in Lancaster County, Pa. and approving the signing of a water supply agreement with the Lancaster County Solid Waste Management Authority; (5) adopting a resolution deferring updates to the Comprehensive Plan for the Water Resources of the Susquehanna River Basin until 2021; (6) approving a request for waiver of 18 CFR 806.31, and (7) approving a settlement with EQT Production Company for $120,000.

Project Applications Approved

The Commission approved the following project applications:

1. Project Sponsor and Facility: City of Aberdeen, Harford County, Md. Modification to extend the approval term of the surface water withdrawal approval (Docket No. 20021210) to be coterminous with a revised Maryland Department of the Environment State Water Appropriation and Use Permit for the Aberdeen Proving Ground-Aberdeen Area.

2. Project Sponsor and Facility: City of Aberdeen, Harford County, Md. Modification to extend the approval term of the consumptive use approval (Docket No. 20021210) to be coterminous with a revised Maryland Department of the Environment State Water Appropriation and Use Permit for the Aberdeen Proving Ground-Aberdeen Area.

3. Project Sponsor and Facility: Adams & Hollenbeck Waterworks, LLC (Salt Lick Creek), New Milford Township, Susquehanna County, Pa. Application for renewal of surface water withdrawal of up to 0.720 mgd (peak day) (Docket No. 20141209).

4. Project Sponsor and Facility: ARD Operating, LLC (Pine Creek), Watson Township, Lycoming County, Pa. Application for renewal of surface water withdrawal of up to 0.720 mgd (peak day) (Docket No. 20141201).

5. Project Sponsor and Facility: Bloomfield Borough Water Authority, Bloomfield Borough, Perry County, Pa. Application for groundwater withdrawal of up to 0.055 mgd (30-day average) from Perry Village Well 2.

6. Project Sponsor and Facility: Denver Borough Authority, Denver Borough, Lancaster County, Pa. Application for renewal of groundwater withdrawal of up to 0.098 mgd (30-day average) from Well 2 (Docket No. 19890104).

7. Project Sponsor and Facility: Denver Borough Authority, Denver Borough, Lancaster County, Pa. Application for renewal of groundwater withdrawal of up to 0.092 mgd (30-day average) from Well 3 (Docket No. 19890104).

8. Project Sponsor and Facility: East Cocalico Township Authority, East Cocalico Township, Lancaster County, Pa. Application for renewal of groundwater withdrawal of up to 0.045 mgd (30-day average) from Well 10 (Docket No. 19890101).

9. Project Sponsor and Facility: East Cocalico Township Authority, East Cocalico Township, Lancaster County, Pa. Application for renewal of groundwater withdrawal of up to 0.059 mgd (30-day average) from Well 9 (Docket No. 19890101).

10. Project Sponsor and Facility: Eclipse Resources-PA, LP (Pine Creek), Gaines Township, Tioga County, Pa. Application for surface water withdrawal of up to 3.000 mgd (peak day).

11. Project Sponsor and Facility: Masonic Village at Elizabethtown, West Donegal Township, Lancaster County, Pa. Modification to increase consumptive use by an additional 0.055 mgd (peak day), for a total consumptive use of up to 0.230 mgd (peak day) (Docket No. 20030811).

12. Project Sponsor and Facility: Repsol Oil & Gas USA, LLC (Seeley Creek), Wells Township, Bradford County, Pa. Application for renewal of surface water withdrawal of up to 0.750 mgd (peak day) (Docket No. 20141212).

13. Project Sponsor and Facility: Repsol Oil & Gas USA, LLC (Wyalusing Creek), Stevens Township, Bradford County, Pa. Application for renewal of surface water withdrawal of up to 1.500 mgd (peak day) (Docket No. 20141213).

14. Project Sponsor and Facility: Schuylkill Energy Resources, Inc., Mahanoy Township, Schuylkill County, Pa. Application for renewal of groundwater withdrawal of up to 5.000 mgd (30-day average) from Maple Hill Mine Shaft Well (Docket No. 19870101).

15. Project Sponsor and Facility: Schuylkill Energy Resources, Inc., Mahanoy Township, Schuylkill County, Pa. Application for renewal of consumptive use of up to 2.550 mgd (peak day) (Docket No. 19870101).

16. Project Sponsor and Facility: SWEPI LP (Cowanesque River), Nelson Township, Tioga County, Pa. Application for renewal of surface water withdrawal of up to 0.533 mgd (peak day) (Docket No. 20141211).

17. Project Sponsor and Facility: Tenaska Resources, LLC (Cowanesque River), Westfield Township, Tioga County, Pa. Application for renewal of surface water withdrawal of up to 0.400 mgd (peak day) (Docket No. 20141214).

Project Applications Tabled

The Commission tabled action on the following project applications:

1. Project Sponsor: Aqua Pennsylvania, Inc. Project Facility: Beech Mountain System, Butler Township, Luzerne County, Pa. Application for groundwater withdrawal of up to 0.144 mgd (30-day average) from Beech Mountain Well 1.

2. Project Sponsor: Aqua Pennsylvania, Inc. Project Facility: Beech Mountain System, Butler Township, Luzerne County, Pa. Application for groundwater withdrawal of up to 0.144 mgd (30-day average) from Beech Mountain Well 2.

3. Project Sponsor: Aqua Pennsylvania, Inc. Project Facility: Beech Mountain System, Butler Township, Luzerne County, Pa. Application for groundwater withdrawal of up to 0.124 mgd (30-day average) from Beech Mountain Well 3.

Project Involving a Diversion

The Commission approved the following project application involving a diversion:

1. Project Sponsor and Facility: City of Aberdeen, Harford County, Md. Modification to extend the approval term of the out-of-basin diversion approval (Docket No. 20021210) to be coterminous with a revised Maryland Department of the Environment State Water Appropriation and Use Permit for the Aberdeen Proving Ground-Aberdeen Area.

Commission-Initiated Project Approval Modifications

The Commission approved the following project approval modifications:

1. Project Sponsor and Facility: Fox Hill Country Club, Exeter Borough, Luzerne County, Pa. Conforming the grandfathering amount with the forthcoming determination for a groundwater withdrawal of up to 0.125 mgd (30-day average) from the Halfway House Well (Docket No. 20020605).

2. Project Sponsor and Facility: Norwich Pharmaceuticals, Inc., Town of North Norwich, Chenango County, N.Y. Conforming the grandfathering amount with the forthcoming determination for groundwater withdrawals of up to 0.106 mgd (30-day average) from Well 1 and up to 0.082 mgd (30-day average) from Well 2 (Docket No. 20050902).

Authority: Pub. L. 91-575, 84 Stat. 1509 et seq., 18 CFR parts 806, 807, and 808.

Dated: December 19, 2018.
Jason E. Oyler,
Acting Secretary to the Commission.

[FR Doc. 2018-27930 Filed 12-26-18; 8:45 am]

BILLING CODE 7040-01-P